FEDERAL COMMUNICATIONS COMMISSION

Public Information Collections Approved by Office of Management and Budget

March 6, 2003.

The Federal Communications Commission (FCC) has received Office of Management and Budget (OMB) approval for the following public information collections pursuant to the Paperwork Reduction Act of 1995, Public Law 104-13. An agency may not conduct or sponsor and a person is not required to respond to a collection of information unless it displays a currently valid control number. For further information contact Paul J. Laurenzano, Federal Communications Commission, (202) 418-1359 or via the Internet at plaurenz@fcc.gov.

OMB Control No.: 3060-0715.

Expiration Date: 02/28/2006.

Title: Telecommunications Carriers' Use of Customer Proprietary Network Information (CPNI) and Other Customer Information, CC Docket No. 96-115.

Form No.: N/A.

Estimated Annual Burden: 4,832 responses; 672,808 total annual hours; $229,520,000 cost burden; 139.2 hours per respondent.

Needs and Uses: The requirements implement the statutory obligations of section 222 of the Telecommunications Act of 1996. Among other things, carriers are permitted to use, disclose, or permit access to CPNI, without customer approval, under certain conditions.

Many uses of CPNI require either opt-in or opt-out customer approval, depending upon the entity using the CPNI and the purpose for which it is used.

OMB Control No.: 3060-1009.

Expiration Date: 02/28/2006.

Title: Telecommunications Reporting Worksheet, CC Docket No. 96-45.

Form No.: 499, 499-A, 499-Q, 499-M.

Estimated Annual Burden: 1 responses; 1 total annual hours; 1 hour per response.

Needs and Uses: Pursuant to the Communications Act of 1934, as amended, telecommunications carriers (and certain other providers of telecommunications services) must contribute to the support and cost recovery mechanisms for telecommunications relay services, numbering administration, number portability, and universal service. The Commission is seeking comment on three connection-based proposals to futher refine the record in the proceeding to revisit its universal service contribution methodology. If adopted, the proposals may entail altering the current reporting requirements to which interstate telecommunications carriers are subject under Part 54 of the Commission's rules.

OMB Control No.: 3060-0147.

Expiration Date: 02/28/2006.

Title: Section 64.804—Extension of Unsecured Credit for Interstate and Foreign Communication Services to Candidates for Federal Office.

Form No.: N/A.

Estimated Annual Burden: 13 responses; 104 total annual hours; 8 hours per response.

Needs and Uses: Communications common carriers with operating revenues exceeding $1 million who extend unsecured credit to a candidate or person on behalf of such candidates for Federal office must file with the FCC a report including due and outstanding balances. The information is used for monitoring purposes.

OMB Control No.: 3060-0076.

Expiration Date: 02/28/2006.

Title: Annual Employment Report for Common Carriers.

Form No.: FCC-395.

Estimated Annual Burden: 4,000 responses; 4,000 total annual burden hours; 1 hour per response.

Needs and Uses: The Annual Employment Report is submitted by certain common carrier licensees and permittees. The Information contained in the report is intended to assess compliance with equal employment opportunity requirements. The reports have been used by the FCC, Congress, the U.S. Commission on Civil Rights, EEOC, NTIA, public interest groups and carrier representatives.

OMB Control No.: 3060-0989.

Expiration Date: 11/30/2005.

Title: Procedures for Applicants Requiring Section 214 Authorization for Domestic Interstate Transmission Lines Aquired Through Corporate Control, 47 CFR Sections 63.01, 63.03 and 63.04.

Form No.: N/A.

Estimated Annual Burden: 35 responses; 1,655 total annual hours; $20,000 cost burden; 3-60 hours per response.

Needs and Uses: Report and Order (CC Docket No. 01-150) provides presumptive Streamlining categories, allows for joint applications for international and domestic transfers of control, clarifies confusion about content of applications, provides timelines for streamlined transaction review, provides a pro forma transaction process, allows asset acquisitions to be treated as transfers of control and deletes obsolete sections of the Commission's rules. The information will be used to ensure that applicants comply with the requirements of 47 U.S.C. Section 214.

OMB Control No.: 3060-0519.

Expiration Date: 11/30/2005.

Title: Rules and Regulations Implementing the Telephone Consumer Protection Act of 1991 (CC Docket No. 92-06).

Form No.: N/A.

Estimated Annual Burden: 30,000 responses; 1,653,600 total annual hours; 55.1 hours per response.

Needs and Uses: Parts 64 and 68 of the Commission's rules contain procedures for avoiding unwanted telephone solicitations to residences, and to regulate the use of automatic telephone dialing systems, artificial or prerecorded voice messages, and telephone facsimile machines. The Commission believes that the recordkeeping requirement is the best means of preventing unwanted telephone solicitations.

OMB Control No.: 3060-0513.

Expiration Date: 12/31/2005.

Title: ARMIS Joint Cost Report.

Form No.: FCC 43-03.

Estimated Annual Burden: 121 responses; 10,043 total annual hours; 83 hours per response.

Needs and Uses: The Joint Cost Report is needed to administer our joint cost rules (Part 64), and to analyze data in order to prevent cross-subsidization of non-regulated operations by the regulated operations of Tier 1 carriers.

OMB Control No.: 3060-0511.

Expiration Date: 12/21/2005.

Title: ARMIS Access Report.

Form No.: FCC 43-04.

Estimated Annual Burden: 121 responses; 18,997 total annual hours; 157 hours per respondent.

Needs and Uses: The Access Report is needed to administer the Commission's accounting, jurisdicational separations and access charge rule; to analyze revenue requirements and rates of return, and to collect financial data from Tier 1 incumbent local exchange carriers.

OMB Control No.: 3060-0395.

Expiration Date: 12/31/2005.

Title: The Armis USOA Report (ARMIS Report 43-02); The ARMIS Service Quality Report (ARMIS Report 43-05); and the ARMIS Infrastructure Report (ARMIS Report 43-07).

Form No.: FCC 43-02, FCC 43-05, FCC 43-07.

Estimated Annual Burden: 50 responses; 26,446 total annual hours; 529 hours per response.

Needs and Uses: The USOA Report provides the annual results of the carriers' activities for each account of the Uniform System of Accounts. The Service Quality Report provides service quality information in the areas of interexchange access service, installation and repair intervals, local service installation and repair intervals, trunk blockage, and total switch downtime for price cap carriers. The Infrastructure Report provides switch deployment and capabilities data.

OMB Control No.: 3060-0793.

Expiration Date: 10/31/2005.

Title: Federal-State Joint Board on Universal Service, CC Docket No. 96-45, Procedures For Self Certifying as a Rural Carrier.

Form No.: N/A.

Estimated Annual Burden: 10 responses; 10 total annual hours; 1 hour per response.

Needs and Uses: In the Tenth Report and Order, the Commission adopted proposals that carriers serving study areas with fewer than 100,000 access lines that already have certified their rural status need not re-certify for purposes of receiving support beginning January 1, 2000, and need only file thereafter if their status changes. Further, carriers serving more than 100,000 access lines need to file rural certifications for their year 2001 status has changed.

OMB Control No.: 3060-0855.

Expiration Date: 10/31/2005.

Title: Telecommunications Reporting Worksheet, CC Docket No. 96-45.

Form No.: FCC 499, FCC 499-A, FCC 499-Q.

Estimated Annual Burden: 14,300 responses; 106,287 total annual hours; $18,000 cost burden; 7.5 hours per respondent.

Needs and Uses: Pursuant to the Communications Act of 1934, as amended, telecommunications carriers (and certain other providers of telecommunications services) must contribute to the support and cost recovery mechanisms for telecommunications relay services, numbering administration, number portability, and universal service. The Commission modified the existing methodology used to assess contributions that carriers make to the federal universal servcie support mechanisms.

The modifications adopted, will entail altering to the current revenue reporting requirements to which interstate telecom. carriers are subject under part 54 of the Commission's rules.

OMB Control No.: 3060-0770.

Expiration Date: 12/31/2005.

Title: Price Cap Performance Review for Local Exchange Carriers, CC Docket No. 94-1 (New Services).

Form No.: N/A.

Estimated Annual Burden: 26 responses; 130 total annual hours; 5 hours per response.

Needs and Uses: The Commission permits price cap LECs to introduce new services on a streamlined basis, without prior approval. The Commission modified the rules to eliminate the public interest showing required by 69.4(g) and to eliminate the new services test (except in the case of loop-based new services) required under sections 61.49(f) and (g). The information is needed by the Commission to carry out its mandate.

OMB Control No.: 3060-0704.

Expiration Date: 12/31/2005.

Title: Policy and Rules Concerning the Interstate, Interexchange Marketplace; Implementation of Section 254 (g) of the Communications Act of 1934, as amended, CC Docket No. 96-6.

Form No.: N/A.

Estimated Annual Burden: 519 responses; 158,971 total annual hours; $435,000 cost burden; 306.3 hours per response.

Needs and Uses: In the Second Order on Reconsideration issued in CC Docket No. 96-61, the Commission reinstates the public disclosure requirement and also requires that nondominant interexchange carriers that have Internet websites pass this information on-line in a timely and easily accessible manner. These carriers also continue to be required to file annual certifications pursuant to section 254(g); maintain price and service information; and are forborned from filing certain tariffs.

OMB Control No.: 3060-0760.

Expiration Date: 12/31/2005.

Title: Access Charge Reform, CC Docket No. 96-262 (First Report and Order); Second Order on Reconsideration and Memorandum Opinion and Order, and Fifth Report and Order.

Form No.: N/A.

Estimated Annual Burden: 14 responses; 57,127 total annual hours; $8,000 cost burden; 4,080.5 hours per response.

Needs and Uses: The Commission provides detailed rules for implementing the market-based approach, pursuant to which price cap LECs would receive pricing flexibility in the provision of interstate access services as competition for those services develops. The Order grants immediate pricing flexibility to price cap LECs in the form of streamlined introduction of new services, geographic deaveraging of rates for services in the trunking basket, and removal of certain interstate interexchange services from price cap regulation, while providing for additional pricing flexibility upon certain showings. A FNPRM seeks additional flexibility.

Federal Communications Commission.
Marlene H. Dortch,
Secretary.

[FR Doc. 03-6145 Filed 3-13-03; 8:45 am]

BILLING CODE 6712-01-P